DEPARTMENT OF EDUCATION

[Docket No.: ED-2014-ICCD-0146]

Agency Information Collection Activities; Comment Request; State Plan To Ensure Equitable Access to Excellent Educators; Frequently Asked Questions

AGENCY: Office of Elementary and Secondary Education (OESE), Department of Education (ED).

ACTION: Notice.

SUMMARY: In accordance with the Paperwork Reduction Act of 1995 (44 U.S.C. chapter 3501 et seq.), ED is proposing a new information collection.

DATES: Interested persons are invited to submit comments on or before January 9, 2015.

ADDRESSES: Comments submitted in response to this notice should be submitted electronically through the Federal eRulemaking Portal at http://www.regulations.gov by selecting Docket ID number ED-2014-ICCD-0146 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Danielle Smith, (202) 453-5546.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State Plan to Ensure Equitable Access to Excellent Educators; Frequently Asked Questions.

OMB Control Number: 1810-NEW.

Type of Review: A new information collection.

Respondents/Affected Public: State, Local or Tribal Government.

Total Estimated Number of Annual Responses: 52.

Total Estimated Number of Annual Burden Hours: 116.

Abstract: In order to move America toward the goal of ensuring that every student in every public school has equitable access to excellent educators, Secretary Duncan announced in July 2014 that the U.S. Department of Education (Department) would ask each State educational agency (SEA) to submit a plan describing the steps it will take to ensure that “poor and minority children are not taught at higher rates than other children by inexperienced, unqualified, or out-of-field teachers,” as required by section 1111(b)(8)(C) of the Elementary and Secondary Education Act of 1965 (ESEA) (hereinafter we use the term State Plan to mean only State Plans to Ensure Equitable Access to Excellent Educators.). Title I, Part A of the ESEA also requires a State educational agency (SEA) that receives a Title I, Part A grant to submit to the Secretary a plan, developed by the SEA, in consultation with local educational agencies, teachers, principals, pupil services personnel, administrators, other staff, and parents (ESEA section 1111(a)(1)). ED has developed the document titled State Plans to Ensure Equitable Access to Excellent Educators—Frequently Asked Questions to assist SEAs with submitting their State Plans, which includes information collection activities covered by the Paperwork Reduction Act. The information collection activities consist of the information an SEA must develop and submit to ED in their State Plans.

Dated: November 3, 2014.
Tomakie Washington,
Acting Director, Information Collection Clearance Division, Privacy, Information and Records Management Services, Office of Management.

[FR Doc. 2014-26456 Filed 11-7-14; 8:45 am]

BILLING CODE 4000-01-P